DEPARTMENT OF ENERGY

Federal Energy Regulatory Commission

[Docket No. ER00-2413-010, et al.]

American Electric Power Service Corporation, et al. Electric Rate and Corporate Filings

September 27, 2002.

The following filings have been made with the Commission. The filings are listed in ascending order within each docket classification.

1. American Electric Power Service Corporation

[Docket Nos. ER00-2413-010]

Take notice that on September 25, 2002, American Electric Power Service Corporation, on behalf of the operating companies of the American Electric Power System (collectively AEP) filed a proposed amendment to its Open Access Transmission Tariff in compliance with the Commission's August 2, 2002 Letter Order, 100 FERC ¶ 61,150 (2002) in the above-referenced docket.

AEP requests an effective date of July 1, 2000 for the proposed amendment. Copies of AEP's filing have been served upon AEP's transmission customers and the public service commissions of Arkansas, Indiana, Kentucky, Louisiana, Michigan, Ohio, Oklahoma, Tennessee, Texas, Virginia and West Virginia.

Comment Date: October 16, 2002.

2. Continental Electric Cooperative Services, Inc.

[Docket No. ER02-1118-003]

Take notice that on September 25, 2002, Continental Electric Cooperative Services, Inc., submitted to Federal Energy Regulatory Commission a modification to its rate schedule.

Comment Date: October 16, 2002.

3. Just Energy, LLC

[Docket No. ER02-2134-001]

Take notice that on September 25, 2002, Just Energy, LLC (Just Energy) tendered for filing a compliance filing in the above-referenced docket involving Just Energy, LLC Tariff Sheet No. 1.

Comment Date: October 16, 2002.

4. Southern California Edison Company

[Docket No. ER02-2263-001

Take notice that on September 25, 2002, Southern California Edison Company (SCE) tendered for filing a revised rate sheet for its market-based rate tariff (FERC Electric Tariff No. 8). The purpose of this filing is to comply with the Commission's August 29, 2002 Letter Order in the above-referenced case.

Copies of this filing were served upon the Service List compiled by the Secretary in this docket.

Comment Date: October 16, 2002.

5. Ameren Services Company

[Docket No. ER02-2534-001]

Take notice that on September 24, 2002, Ameren Services Company (ASC) tendered for filing a Firm Point-to-Point Transmission Service Agreement between ASC and Illinois Municipal Electric Company. ASC asserts that the purpose of the Agreement is to replace the unexecuted Agreement in Docket No. ER 02-2534-000 with the executed Agreement.

Comment Date: October 15, 2002.

6. Ameren Services Company

[Docket No.ER02-2594-000]

Take notice that on September 24, 2002, Ameren Services Company (ASC) tendered for filing Service Agreements for Firm Point-to-Point Transmission Service and Non-Firm Point-to-Point Transmission Service between ASC and TECO EnergySource, Inc., Peabody Energy Corporation, Wisconsin Public Service Corporation and PSEG Energy Resources & Trade LLC (the parties). ASC asserts that the purpose of the Agreements is to permit ASC to provide transmission service to the parties pursuant to Ameren's Open Access Transmission Tariff.

Comment Date: October 15, 2002.

7. Midwest Independent Transmission System

[Docket No. ER02-2595-000]

Take notice that on September 24, 2002, the Midwest Independent Transmission System Operator, Inc. (Midwest ISO) tendered for filing proposed Rate Schedules 16 and 17 for incorporation into the Midwest ISO Open Access Transmission Tariff (OATT), FERC Electric Tariff, Second Revised Volume No. 1. The Midwest ISO's proposed Schedules 16 and 17 provide for the collection of costs incurred by the Midwest ISO to provide Financial Transmission Rights (FTRs), establish and implement within its footprint day-ahead and real-time energy markets (Energy Markets) and to facilitate the creation of a joint and common market by and between the Midwest ISO and the PJM Interconnection, L.L.C.

The Midwest ISO has requested an effective date of November 25, 2002.

The Midwest ISO seeks waiver of the Commission's regulations, 18 CFR 385.2010 with respect to service on all required parties. The Midwest ISO has electronically served a copy of this filing upon all Midwest ISO Members, Member representatives of Transmission Owners and Non-Transmission Owners, the Midwest ISO Advisory Committee participants, Policy Subcommittee participants, as well as all state commissions within the region. In addition, the filing has been electronically posted on the Midwest ISO's Web site at www.midwestiso.org under the heading “Filings to FERC” for other interested parties in this matter. The Midwest ISO will provide hard copies to any interested parties upon request.

Comment Date: October 15, 2002.

8. El Paso Electric Company

[Docket No. ER02-2596-000]

Take notice that on September 25, 2002, El Paso Electric Company (EPE) on behalf of itself tendered for filing the executed Shiprock-Four Corners Project 345-kV Switchyard Interconnection Agreement (IA) between the Four Corner Participants and the Interconnection Participants.

The Four Corner Participants consist of the joint owners of a 345-kV Switchyard and include EPE, Arizona Public Service Company (APS), Public Service Company of New Mexico, Salt River Project Agricultural Improvement and Power District, Southern California Edison Company and Tucson Electric Power Company.

The Interconnection Participants consist of Public Service of Colorado, Tri-State Generation and Transmission Association, Inc., and the United States of America acting by and through the Administrator, Western Area Power Administration, Department of Energy. The Interconnection Participants have rights to a 230-kV Shiprock-Four Corners Transmission Line that is being upgraded to 345-kV, and desire an interconnection to the 345-kV Switchyard of the Four Corner Participants. The IA establishes the rates, terms and conditions for installation, operation and maintenance of interconnection facilities related to the Shiprock-Four Corners Project 345-kV Switchyard. Under the terms of the IA, the Interconnection Participants will reimburse APS for the construction costs of the interconnection facilities and these interconnection facilities will permit the relocation of the termination of the Shiprock-Four Corners Transmission Line to the 345-kV Switchyard.

A copy of this filing has been served on parties to the IA, the Public Utility Commission of Texas, the New Mexico Public Regulation Commission, and the United States Department of Agriculture, Rural Utilities Service (“RUS”).

Comment Date: October 16, 2002.

9. PJM Interconnection, L.L.C.

[Docket Nos. ER02-2597-000]

Take notice that on September 24, 2002 PJM Interconnection, L.L.C. (PJM), submitted for filing signature pages to the PJM Transmission Owners Agreement (TOA) executed by Rock Springs Generation, L.L.C. (RSG) and CED Rock Springs, Inc. (CEDRS) and a revised Attachment L to PJM's Open Access Transmission Tariff. PJM states that execution of the TOA by RSG and CEDRS follows amendments to the TOA accepted by the Commission on August 22, 2002, in Docket No. ER02-2256-000 and, upon acceptance subject to the proposed effective date, will obviate the need for the Facilities Operation Agreement among PJM, RSG and CEDRS that PJM filed in Docket No. ER02-1726-000 on May 6, 2002. The revised Attachment L adds RSG and CEDRS to the list of PJM Transmission Owners. PJM requests an effective date of April 29, 2002, for the executed signature pages to the TOA and the revised Attachment L.

Copies of this filing were served upon the official service lists of Docket Nos. ER02-1726-000 and ER02-2256-000, all members of PJM, and the state electric utility regulatory commissions within the PJM region.

Comment Date: October 15, 2002.

10. Commonwealth Edison Company

[Docket No. ER02-2598-000]

Take notice that on September 25, 2002, Commonwealth Edison Company (ComEd) submitted for filing four unexecuted Service Agreements entered into between ComEd and NRG Power Marketing Inc. under ComEd's Open Access Transmission Tariff (OATT).

ComEd seeks waiver of the Commission's notice requirements to permit an effective date of January 1, 2002 for all of the Service Agreements. Copies of the filing were served upon NRG Power Marketing Inc. and the Illinois Commerce Commission.

Comment Date: October 16, 2002.

11. Central Power and Light Company

[Docket No. ER02-2599-000]

Public Service Company of Oklahoma Southwestern Electric Power Company West Texas Utilities Company

Take notice that on September 25, 2002, Central Power and Light Company, Public Service Company of Oklahoma, Southwestern Electric Power Company and West Texas Utilities Company (collectively, the Companies) submitted for filing a refund report in compliance with the letter order issued July 26, 2002 in the above-referenced dockets (July 26 Letter Order). The July 26 Letter Order established the rates that enable the calculation of refunds required by the Commission's November 8, 2001 order in the above-referenced dockets. Central Power and Light Company, et al., 97 FERC ¶ 61,157 (2001) (Remand Order). The Companies state that a copy of the filing has been served on all parties to this proceeding, all customers under the tariff and the Public Utility Commission of Texas, the Louisiana Public Service Commission, the Arkansas Public Service Commission and the Oklahoma Corporation Commission.

Comment Date: October 16, 2002.

12. Laurent Cusson, Richard Legault, Donald Tremblay

[Docket Nos. ID-3695-001, ID-3694-001, and ID-3826-000]

Take notice that on September 23, 2002, Laurent Cusson, Richard Legault and Donald Tremblay submitted to Federal Energy Regulatory Commission (Commission) Abbreviated Applications for Authorization to Hold Interlocking Positions pursuant to Section 305 of the Federal Power Act and Part 45 of the Commission's Regulations.

Comment Date: October 15, 2002.

13. Central Power and Light Company, Public Service Company of Oklahoma, Southwestern Electric Power Company, West Texas Utilities Company

[Docket Nos. OA97-24-008, ER97-881-005, ER98-4609-005, and ER98-4511-006

Take notice that on September 25, 2002, Central Power and Light Company, Public Service Company of Oklahoma, Southwestern Electric Power Company and West Texas Utilities Company (collectively, the Companies) submitted for filing revised pages to the Companies' Transmission Coordination Agreement (TCA). The revised provisions of the TCA govern the allocation of transmission service revenues between the Companies during the locked-in time period from January 1, 1997 to June 15, 2000. These changes to the TCA are needed to reflect the effect of the refunds the Companies were required to make in compliance with the letter order issued July 26, 2002 in Central Power and Light Co., et al., Docket Nos. OA97-24-007, et al. (July 26 Letter Order). The July 26 Letter Order established the rates required by the Commission's November 8, 2001 order in the same dockets. Central Power and Light Company, et al., 97 FERC 61,157 (2001).

The Companies state that a copy of the filing has been served on all parties to Docket Nos. OA97-24-000, et al., the Public Utility Commission of Texas, the Louisiana Public Service Commission, the Arkansas Public Service Commission and the Oklahoma Corporation Commission.

Comment Date: October 16, 2002.

Standard Paragraph

Any person desiring to intervene or to protest this filing should file with the Federal Energy Regulatory Commission, 888 First Street, NE., Washington, DC 20426, in accordance with Rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Linwood A. Watson, Jr.,
Deputy Secretary.

[FR Doc. 02-25399 Filed 10-4-02; 8:45 am]

BILLING CODE 6717-01-P